DEPARTMENT OF HOUSING AND URBAN DEVELOPMENT

[Docket No. FR-5477-N-35]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; COE: Mr. Scott Whiteford, Army Corps of Engineers, Real Estate, CEMP-CR, 441 G Street, NW., Washington, DC 20314; (202) 761-5542; DoD: Ms. Julie L. Jones-Conte, Department of Defense, Real Property Assets Management, Washington Headquarters Services, Room 5D325 Pentagon, Washington, DC 20315; (703) 697-0044; Energy: Mr. Mark Price, Department of Energy, Office of Engineering & Construction Management, MA-50, 1000 Independence Ave, SW., Washington, DC 20585: (202) 586-5422; GSA: Mr. John E.B. Smith, General Services Administration, Office of Real Property Utilization and Disposal, 1800 F Street NW., Room 7040 Washington, DC 20405; (202) 501-0084; Navy: Mr. Albert Johnson, Department of the Navy, Asset Management Division, Naval Facilities Engineering Command, Washington Navy Yard, 1330 Patterson Ave., SW., Suite 1000, Washington, DC 20374; (202) 685-9305; (These are not toll-free numbers).

Dated: August 25, 2011.
Mark R. Johnston,
Deputy Assistant Secretary for Special Needs.

Title V, Federal Surplus Property Program Federal Register Report for 09/02/2011

Suitable/Available Properties

Land

Massachusetts

Land/Tract #A101,

McDill Rd.,

Bedford MA 07131,

Landholding Agency: Air Force,

Property Number: 18201130003,

Status: Unutilized.

Comments: 5.35 acres, recent use: AF trailer court, property limitation: Local Bedford Zoning By-Laws (Industrial Park District A-IP).

Texas

Parcel 2,

Camp Bowie,

Brownwood TX 76801,

Landholding Agency: GSA,

Property Number: 54201130001,

Status: Surplus,

GSA Number: 7-D-TX-0589.

Comments: 22.58 acres, two storage units on land approx. 600 sq. ft., recent use: Storage, legal constraints: access easement, 10% of property in floodway.

Unsuitable Properties

Building

California

10 Bldgs.,

Lawrence Berkeley Nat'l Lab,

Berkeley CA 94720,

Landholding Agency: Energy,

Property Number: 41201130004,

Status: Excess,

Directions: 90B, 90C, 90F, 90G, 90H, 90J, 90K, 90P, 90Q, 90R.

Reasons: Contamination, Extensive deterioration, Secured Area.

Bldg. 1533,

Marine Air Guard,

Twenty-nine Palms CA,

Landholding Agency: Navy,

Property Number: 77201130013,

Status: Excess,

Reasons: Extensive deterioration.

Georgia

9 Bldgs.,

MCLB,

Albany GA,

Landholding Agency: Navy,

Property Number: 77201130014,

Status: Unutilized,

Directions: 1550, 7103, 7105, 7107, 7109, 7111, 7113, 7115, 9201AB.

Reasons: Secured Area, Contamination.

Illinois

Trailers 116, 124, 134,

Fermi Nat'l Accelerator Lab,

Fermilab IL 60510,

Landholding Agency: Energy,

Property Number: 41201130003,

Status: Excess,

Reasons: Extensive deterioration.

New York

Bldg. 0463A,

Brookhaven Nat'l Lab,

Upton NY 11973,

Landholding Agency: Energy,

Property Number: 41201130001,

Status: Excess,

Reasons: Extensive deterioration.

Floyd Wknd Trng Site,

Koenig Rd.,

Floyd NY,

Landholding Agency: GSA,

Property Number: 54201120001,

Status: Excess,

GSA Number: 1-D-NY-0958.

Directions: 1300, 1302, 1303, 1304, 1305, 1306 w/shed, 1307 w/shed.

Comments: Land and bldgs. was previously reported and published in the Federal Register as two separate unsuitability determinations; however, bldgs. and land has been reclassified as one parcel.

Reasons: Extensive deterioration.

North Dakota

Stanley Mickelsen,

10509 County 26,

Nekoma ND 58355,

Landholding Agency: GSA,

Property Number: 54201130003,

Status: Surplus,

GSA Number: 7-D-ND-0499,

Reasons: Secured Area.

Ohio

Facility 20040,

2330 K. Street,

WPAFB OH 45433,

Landholding Agency: Air Force,

Property Number: 18201130030,

Status: Unutilized,

Reasons: Secured Area.

Oklahoma

9 Bldgs.,

Hugo Lake,

Sawyer OK 74756,

Landholding Agency: COE,

Property Number: 31201130004,

Status: Underutilized,

Directions: 43842, 43808, 43813, 43812, 43765, 43783, 43784, 43790, 43791.

Reasons: Extensive deterioration.

Oregon

Bldg. 6977,

Foster Lake,

Sweet Home OR,

Landholding Agency: COE,

Property Number: 31201130003,

Status: Unutilized,

Reasons: Extensive deterioration.

7 Bldgs.,

Cougar Lake,

Eugene OR,

Landholding Agency: COE,

Property Number: 31201130005,

Status: Unutilized,

Directions: 8450, 6378, 6381, 7513, 7514, 7515, 8449.

Reasons: Extensive deterioration, Contamination.

Fern Ridge Lake,

Richardson Park Marina,

Junction City OR 97448,

Landholding Agency: COE,

Property Number: 31201130006,

Status: Underutilized,

Reasons: Secured Area.

Pennsylvania

Guard Tower Bldg,

NSA Activity,

Mechanicsburg PA 17055,

Landholding Agency: Navy,

Property Number: 77201130015,

Status: Excess,

Reasons: Secured Area.

Texas

3 Portable Bldgs.,

Pantex Plant,

Amarillo TX,

Landholding Agency: Energy,

Property Number: 41201130002,

Status: Unutilized,

Directions: 09-054, 09-098, and 12-093.

Reasons: Extensive deterioration, Within 2000 ft. of flammable or explosive material, Secured Area.

Virginia

11 Bldgs.,

WHS,

Arlington VA,

Landholding Agency: DOD,

Property Number: 34201130001,

Status: Excess,

Reasons: Secured Area.

Washington

Boat House,

3015 NW., 54th Street,

Seattle WA 98107,

Landholding Agency: COE,

Property Number: 31201130002,

Status: Unutilized,

Reasons: Extensive deterioration.

[FR Doc. 2011-22191 Filed 9-1-11; 8:45 am]

BILLING CODE 4210-67-P